DEPARTMENT OF VETERANS AFFAIRS

[OMB Control No. 2900-0103]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before February 14, 2002.

FOR FURTHER INFORMATION OR A COPY OF THE SUBMISSION CONTACT: Denise McLamb, Information Management Service (045A4), Department of Veterans Affairs, 810 Vermont Avenue, NW, Washington, DC 20420, (202) 273-8015, FAX (202) 273-5981 or e-mail: denise.mclamb@mail.va.gov. Please refer to “OMB Control No. 2900-0103.”

SUPPLEMENTAL INFORMATION: Title: Application for Dependency and Indemnity Compensation by Child, VA Form 21-4183.

OMB Control Number: 2900-0103.

Type of Review: Extension of a currently approved collection.

Abstract: VA Form 21-4183 is used by a child under age 18 to apply for dependency and indemnity compensation where the surviving spouse was not entitled or is no longer entitled to receive benefits or by a child age 18 or over regardless of the surviving spouse's entitlement. The form is used in lieu of VA Form 21-534, Application for Dependency and Indemnity Compensation or Death Pension by Widow(er) or Child, in order to help reduce the reporting burden of a child under 18 when information about the deceased veteran's spouse is not required.

An agency may not conduct or sponsor, and a person is not required to respond to a collection of information unless it displays a currently valid OMB control number. The Federal Register Notice with a 60-day comment period soliciting comments on this collection of information was published on July 6, 2001, at pages 35700-35701.

Affected Public: Individuals or households.

Estimated Annual Burden: 1,975 hours.

Estimated Average Burden Per Respondent: 15 minutes.

Frequency of Response: On occasion.

Estimated Number of Respondents: 7,900.

Send comments and recommendations concerning any aspect of the information collection to VA's OMB Desk Officer, OMB Human Resources and Housing Branch, New Executive Office Building, Room 10235, Washington, DC 20503 (202) 395-7316. Please refer to “OMB Control No. 2900-0103” in any correspondence.

Dated: December 17, 2001.
By direction of the Secretary.
Donald L. Neilson,
Director, Information Management Service.

[FR Doc. 02-993 Filed 1-14-02; 8:45 am]

BILLING CODE 8320-01-P